NATIONAL CREDIT UNION ADMINISTRATION

Agency Information Collection Activities; Proposed Collections; Comment Request

AGENCY: National Credit Union Administration (NCUA).

ACTION: Notice and request for comment.

SUMMARY: NCUA, as part of its continuing effort to reduce paperwork and respondent burden, invites the general public and other Federal agencies to comment on these reinstatements of previously approved collections, as required by the Paperwork Reduction Act of 1995 (Pub. L. 104-13, 44 U.S.C. Chapter 35).

DATES: Comments should be received on or before June 17, 2016 to be assured consideration.

ADDRESSES: Interested persons are invited to submit written comments on the information collection to Troy Hillier, National Credit Union Administration, 1775 Duke Street, Alexandria, Virginia 22314-3428; Fax No. 703-519-8595; or Email at PRAComments@NCUA.gov.

FOR FURTHER INFORMATION CONTACT: Requests for additional information should be directed to the address above.

SUPPLEMENTARY INFORMATION: OMB Number: 3133-0092.

Title: Loans to Members and Lines of Credit to Members, 12 CFR 701.21 and 12 CFR 741.

Abstract: Section 107(5) of the Federal Credit Union Act authorizes Federal Credit Unions to make loans to members and issue lines of credit (including credit cards) to members. Part 741 of NCUA's rules and regulations established requirements for all federally insured credit unions related to loans to members and lines of credit union members. Additionally, NCUA's rules and regulations at § 701.21 establish additional requirements related to loans to members and lines of credit to members for federal credit unions. These regulations include various information collections to ensure credit unions comply with applicable laws and operate in a safe and sound manner.

Type of Review: Reinstatement, with change, of a previously approved collection.

Affected Public: Private sector: not-for-profit institutions.

Estimated Number of Respondents: 3,856.

Estimated Number of Responses per Respondent: 392.

Estimated Burden Hours per Response: 0.28.

Estimated Total Annual Burden Hours: 423,451.

Reason for Change: NCUA is combining all of the information collection requirements associated with member loans (12 CFR 701.21 and the associated requirements in 12 CFR 741) under a single control number. Upon approval of the reinstatement, NCUA will discontinue use of two other control numbers (3133-0139 and 3133-0171) associated with this program.

OMB Number: 3133-0127.

Title: Purchase, Sale and Pledge of Eligible Obligations, 12 CFR 701.23.

Abstract: The Federal Credit Union Act limits the amount of eligible obligations a federal credit union is permitted to purchase, sell, pledge, discount, receive or dispose of under Section 107(13), 12 U.S.C. 107. NCUA's rules and regulations further govern this limitation by prescribing additional requirements under § 701.23. The various information collections are in place to ensure a federal credit union's activities related to the purchase, sale, and pledge of eligible obligations comply with applicable laws and are conducted in a safe and sound manner.

Type of Review: Reinstatement without change of a previously approved collection.

Affected Public: Private sector: not-for-profit institutions.

Estimated Number of Respondents: 1,004.

Estimated Number of Responses per Respondent: 38.

Estimated Burden Hours per Response: 0.27.

Estimated Total Annual Burden Hours: 10,540.

Request for Comments: Comments submitted in response to this notice will be summarized and included in the request for Office of Management and Budget approval. All comments will become a matter of public record. The public is invited to submit comments concerning: (a) Whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on April 13, 2016.
Dated: April 13, 2016.
Dawn D. Wolfgang,
NCUA PRA Clearance Officer.

[FR Doc. 2016-08876 Filed 4-15-16; 8:45 am]

BILLING CODE 7535-01-P